DEPARTMENT OF JUSTICE

Notice of Lodging of Proposed Consent Decree Under CERCLA

On November 20, 2015, the Department of Justice lodged a proposed Consent Decree with the United States District Court for the Northern District of Oklahoma, in the lawsuit entitled United States v. The Doe Run Resources Childress Royalty Corporation and NL Industries Inc., Case No. 4:15-cv-00663-CVE-TLW.

Defendants leased property where mining operations took place at the Tar Creek Site. The proposed settlement resolves the United States' claims and the claims of the State of Oklahoma on behalf of the Oklahoma Department of Environmental Quality against The Doe Run Resources Corporation (“Doe Run”) and NL Industries Inc. (“NL”) under Section 107 of CERCLA for recovery of response costs incurred and to be incurred at the Site. Under the proposed Consent Decree, Doe Run will pay $3,433,137 and NL will pay $6,603,590 to resolve the United States' claims. Doe Run and NL will pay $62,000 and $225,000 respectively to resolve the claims of the State. In addition, the Settling Federal Agency (the Department of the Interior) is resolving its CERCLA liability at the Site by paying $5.0 million.

The publication of this notice opens a period for public comment on the Consent Decree. Comments should be addressed to the Assistant Attorney General, Environment and Natural Resources Division, and should refer to United States of America v. The Doe Run Resources Childress Royalty Corporation and NL Industries Inc., Case No. 4:15-cv-00663-CVE-TLW, D.J. Ref. No. 90-11-2-330/10. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $16.25 (25 cents per page reproduction cost) payable to the United States Treasury.

Thomas P. Carroll,
Assistant Section Chief, Environmental Enforcement Section, Environment and Natural Resources Division.

[FR Doc. 2015-30874 Filed 12-7-15; 8:45 am]

BILLING CODE 4410-15-P